SOCIAL SECURITY ADMINISTRATION

[Docket No. SSA 2013-0019]

Privacy Act of 1974, as Amended; Computer Matching Program (SSA)—Match Number 1014

AGENCY: Social Security Administration (SSA).

ACTION: Notice of a renewal of an existing computer matching program that will expire on September 10, 2013.

SUMMARY: In accordance with the provisions of the Privacy Act, as amended, this notice announces a renewal of an existing computer matching program that we are currently conducting internally.

DATES: We will file a report of the subject matching program with the Committee on Homeland Security and Governmental Affairs of the Senate; the Committee on Oversight and Government Reform of the House of Representatives; and the Office of Information and Regulatory Affairs, Office of Management and Budget (OMB). The matching program will be effective as indicated below.

ADDRESSES: Interested parties may comment on this notice by either telefaxing to (410) 966-0869 or writing to the Executive Director, Office of Privacy and Disclosure, Office of the General Counsel, Social Security Administration, 617 Altmeyer Building, 6401 Security Boulevard, Baltimore, MD 21235-6401. All comments received will be available for public inspection at this address.

FOR FURTHER INFORMATION CONTACT: The Executive Director, Office of Privacy and Disclosure, Office of the General Counsel, as shown above.

SUPPLEMENTARY INFORMATION:

A. General

The Computer Matching and Privacy Protection Act of 1988 (Public Law (Pub. L.) 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain approval of the matching agreement by the Data Integrity Boards of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Kirsten J. Moncada,
Executive Director, Office of Privacy and Disclosure, Office of the General Counsel.

Notice of Computer Matching Program, SSA

A. Participating Agency

SSA

B. Purpose of the Matching Program

This computer matching agreement establishes the terms, conditions, and safeguards under which we will compare the Federal Personnel/Payroll System records of current Social Security employees with the records of Disability Income (DI) and Supplemental Security Income (SSI) beneficiaries and recipients through a periodic computerized comparison of records. We will use this information to verify the employees' self-certification statements of income in order to ensure against DI and SSI overpayments.

C. Authority for Conducting the Matching Program

The legal authority for this agreement is as follows:

1. Section 1631(f) of the Social Security Act (Act) (42 U.S.C. 1383(f)) provides that “[t]he head of any Federal agency shall provide such information as the Commissioner of Social Security needs for the purposes of determining eligibility for or amount of benefits, or verifying information with respect thereto.”

2. Section 1631(e)(1)(B)(i) of the Act (42 U.S.C. 1383(e)(1)(B)(i)) provides that SSA is required to verify eligibility of a recipient or applicant for SSI using independent or collateral sources.

3. Section 224(h)(1) of the Act (42 U.S.C. 424a(h)) provides that Federal agencies are required to provide information to SSA that it requires to determine the amount of DI benefits and to verify information with respect thereto.

4. This agreement is subject to the provisions of the Privacy Act of 1974, 5 U.S.C. 552a, as amended, and the provisions of the Computer Matching and Privacy Protection Act (CMPPA) of 1988. The comparison of records that is the subject of this agreement constitutes a matching program within the meaning of the Privacy Act, 5 U.S.C. 552a(a)(8)(A).

D. Categories of Records and Persons Covered by the Matching Program

The data elements included in the match file are:

1. Social Security number (SSN/BIC)—T2;

2. SSN/ID—T16;

3. Current and Separated Employees;

4. Name;

5. Date of birth;

6. Initial date of SSA employment;

7. SSA Employment Component;

8. Work schedule (i.e., Full/Part time; Conditional/Permanent; currently working/separated, etc.);

9. Year to Date Earnings;

10. Hourly rate;

11. Weekly Work Hours;

12. Employee Status (Active, LWOP, Military, Terminate, Separate, etc.);

13. Award Amount;

14. Organization (Office Location—name);

15. Duty Station (Office Location—City, State or County);

16. Servicing Personnel Office (SPO);

17. Pay Period Date (YYYYPP);

18. Last Pay Period (YYYYPP); and

19. Lump Sum Leave Payment.

E. Inclusive Dates of the Matching Program

The effective date of this matching program is September 11, 2013 provided that the following notice periods have lapsed: 30 days after publication of this notice in the Federal Register and 40 days after notice of the matching program is sent to Congress and OMB. The matching program will continue for 18 months from the effective date and, if both agencies meet certain conditions, it may extend for an additional 12 months thereafter.

[FR Doc. 2013-16100 Filed 7-3-13; 8:45 am]

BILLING CODE 4191-02-P